NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 75 FR 47645, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding this information collection are best assured of having their full effect if received within 30 days of this notification. Copies of the submission(s) may be obtained by calling 703-292-7556.

FOR FURTHER INFORMATION CONTACT: Suzanne H. Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Quantitative Evaluation of the ADVANCE Program.

OMB Control No.: 3145-0209.

Abstract

Abstract: The ADVANCE Program was established by the National Science Foundation in 2001 to address the underrepresentation and inadequate advancement of women on STEM (Science, Technology, Engineering, and Mathematics) faculties at postsecondary institutions. The evaluation being conducted by the Urban Institute focuses on the implementation of ADVANCE projects at institutions throughout the nation. The three major funding components—institutional transformation, leadership, and partnership awards—as well as all cohorts funded that completed their funding cycles will be included. The study will rely on a thorough review of project documents, telephone interviews with all grantees, and detailed case studies at selected sites. The goal of the evaluation will be to identify models of implementation and, depending on outcomes by model, conduct case studies at selected institutions to understand how ADVANCE models operate and may be effective in differing settings.

Respondents: Faculty and staff at institutions of higher education awarded an ADVANCE grant from NSF.

Estimated Number of Annual Respondents: 151 (total).

1. Site visit interviews. Conduct interviews in 6 sites selected for case studies. Interview project staff, administrators and faculty. Burden calculated as follows: approximately 8 interviews in each site + interview recipients of leadership awards at case study sites (if any).

Total respondents: 48 estimated interviewees + 7 leadership and PAID award recipients = 55.

2. Site visit focus groups with faculty: 2 per site; 6 sites; 6-8 faculty in each; total = 96.

Burden on the Public: 149 hours (maximum).

Calculated as follows:

1. Site visit interviews: 48 interviews of 1 hour duration = 48 hours and 7 interviews of 45 minutes duration = 5.25 hours (53).

2. Focus groups: 96 participants of 1 hour duration = 96 hours.

Dated: October 1, 2010.
Suzanne H. Plimpton,
Reports Clearance Officer, National Science Foundation.

[FR Doc. 2010-25120 Filed 10-5-10; 8:45 am]

BILLING CODE 7555-01-P